DEPARTMENT OF HEALTH AND HUMAN SERVICES

Administration for Children and Families

Submission for OMB Review; Comment Request

Title: Community Services Block Grant (CSBG) Model State Plan (Revision).

OMB No.: 0970-0382.

Description: Section 676 of the Community Services Block Grant (CSBG) Act requires States, including the District of Columbia and the Commonwealth of Puerto Rico, and U.S. territories applying for CSBG funds to submit an application and plan (Model State Plan). The CSBG State Plan submitted by States must meet statutory requirements prior to being funded with CSBG funds. Applicants have the option to submit a detailed plan annually or biannually. Entities that submit a biannual plan must provide an abbreviated plan the following year if substantial changes to the initial plan will occur.

In 2015, the Model State Plan was substantially revised by automating the form, streamlining the information, and incorporating accountability measures that include customer satisfaction information from eligible entities that receive a proportional share of CSBG funding through State CSBG lead agencies along with technical assistance, monitoring, and other programmatic support.

In fall 2015, the Office of Community Services (OCS) used the American Customer Satisfaction Index (ACSI) to obtain feedback from CSBG eligible entities about services provided by the state CSBG Lead Agencies, as detailed in the new State Accountability Measures. OCS also obtained feedback from state CSBG Lead Agencies on services provided by the federal agency, as outlined in the new Federal Accountability Measures. Both OCS and state CSBG Directors received their state survey results in February 2016.

To support ongoing implementation of state accountability measures related to customer satisfaction from eligible entities, OCS plans to survey eligible entities using the ACSI survey instrument. No changes are planned from the content of the 2015 survey.

Respondents: CSBG eligible entities.

Annual Burden Estimates
Instrument | Number of respondents | Number of responses per respondent | Average burden hours per response | Total burden hours
ACSI CSBG Eligible Entity Survey | 1035 | 1 | .5 | 517.5

Estimated Total Annual Burden Hours: 517.5.

Additional Information: Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2017-10209 Filed 5-18-17; 8:45 am]

BILLING CODE 4184-27-P